DEPARTMENT OF HOMELAND SECURITY

[Docket No. CISA-2025-0006]

Agency Information Collection Activities: “Generic Clearance for the Collection of Qualitative Feedback on National Security and Emergency Preparedness Communications (NSEPC)”

AGENCY: Cybersecurity and Infrastructure Security Agency (CISA), Department of Homeland Security (DHS).

ACTION: 60-Day Notice and request for comments; Collection Request, (Request for OMB Control Number).

SUMMARY: The Emergency Communications Division within Cybersecurity and Infrastructure Security Agency (CISA) will submit the following Information Collection Request (ICR) to the Office of Management and Budget (OMB) for review and clearance in accordance with the Paperwork Reduction Act of 1995.

DATES: Comments are encouraged and will be accepted until September 16, 2025.

ADDRESSES: You may submit comments, identified by docket number Docket #CISA-2025-0006, at:

○ Federal eRulemaking Portal: http://www.regulations.gov. Please follow the instructions for submitting comments.

Instructions: All submissions received must include the agency name and docket number Docket #CISA-2025-0006. All comments received will be posted without change to http://www.regulations.gov, including any personal information provided.

Docket: For access to the docket to read background documents or comments received, go to http://www.regulations.gov.

FOR FURTHER INFORMATION CONTACT: Antonio Branham, 202-981-1930, Antonio.branham@mail.cisa.dhs.gov.

SUPPLEMENTARY INFORMATION: Executive Order 12862 directs Federal agencies to provide service to the public that matches or exceeds the best service available in the private sector. Congress passed Public Law 109-295 in 2006, which included Subtitle D, SEC. 671 `Emergency Communications', also referred to as the `21st Century Emergency Communications Act of 2006'. The legislation established the Department of Homeland Security (DHS) Office of Emergency Communications, which was retitled in 2018 as the Emergency Communications Division (ECD) (hereafter “the Agency”) within CISA, to spearhead the development and implementation efforts, on behalf of emergency responders and government officials across public and private sectors, of an extensive approach to advancing national interoperable communications capabilities.

Under Subtitle D, SEC. 1801. Office of Emergency Communications, 6 U.S.C. 571(c), the following requirements and responsibilities were established for the Director for Emergency Communications to:

(4) conduct extensive, nationwide outreach to support and promote the ability of emergency response providers and relevant government officials to continue to communicate in the event of natural disasters, acts of terrorism, and other man-made disasters.

(5) conduct extensive nationwide outreach and foster the development of interoperable emergency communications capabilities by state, regional, local, and tribal governments, emergency responders, public safety agencies, and by regional consortia thereof.

(8) promote the development of standard operating procedures and best practices with respect to use of interoperable emergency communications capabilities for incident response and facilitate the sharing of information on such best practices for achieving, maintaining, and enhancing interoperable emergency communications capabilities for such response.

(9) coordinate, in cooperation with the National Communications System, the establishment of a national response capability with initial and ongoing planning, implementation, and training for the deployment of communications equipment for relevant state, local, and tribal governments and emergency response providers in the event of a catastrophic loss of local and regional emergency communications services.

(13) develop and update periodically, as appropriate, a National Emergency Communications Plan under section 572 of this title;

(14) perform such other duties of the Department necessary to support and promote the ability of emergency response providers and relevant government officials to continue to communicate in the event of natural disasters, acts of terrorism, and other man-made disasters; and

(15) perform other duties of the Department necessary to achieve the goal of and maintain and enhance interoperable emergency communications capabilities

Sec. 1802. 6 U. S. C. § 572 (a)-(c) requires the Director of Emergency Communications, in cooperation with state, local, and tribal governments, federal departments and agencies, emergency response providers, and the private sector, develop no later than 180 days after the completion of the baseline assessment under section 573 of this title, and periodically update, a National Emergency Communications Plan to support, promote, accelerate, and attain interoperable emergency communications nationwide.

To meet the statutory requirements of 6 U.S.C. 573, the collection of information is necessary to due to the requirement of continuous examinations of nationwide emergency communications capabilities. 6 U. S. C § 573 (a) requires the DHS Secretary to conduct an assessment of Federal, State, local, and tribal governments that (1) defines the range of capabilities needed by emergency response providers and relevant government officials, (3) assesses the current available capabilities to meet such communications needs; (4) identifies the gap between such current capabilities and defined requirements; at least every five years.

To continuously work to ensure that programs are effective and meet customers' needs, the Cybersecurity and Infrastructure Security Agency Emergency Communications Division (hereafter “the Agency”) seeks to obtain OMB approval through the generic clearance process to collect qualitative and quantitative feedback on national security and emergency preparedness communications. Qualitative feedback means information that provides useful insights on perceptions and opinions but are not statistical surveys that yield quantitative results that can be generalized to the population of study.

This information is an imperative requirement to address the multifaceted national emergency and critical infrastructure plans and interagency coordination to implement, support, protect, strengthen, and enhance emergency communications capabilities. Enabling and improving efforts to garner customer and stakeholder feedback in an efficient, and timely manner is vital to the security of the nation to establish uniform policies, standards, and guidelines for integrating emergency communications across federal infrastructure protection and risk management within all 16 infrastructure sectors.

It will allow for insight into customer and stakeholder perceptions, experiences and expectations, and to focus attention on areas where emergency communications, public safety training, or changes or in operations might improve ECD initiatives. The collections from the NSEPC will allow for ongoing, collaborative, and actionable communications between the Agency and its customers and stakeholders while simultaneously contributing directly to the improvement of program management.

Improving agency programs requires the consistency of ongoing assessment of service delivery, meaning a systematic review of the operation of a program compared to a set of explicit or implicit standards, as a way of contributing to the continuous improvement of the program. The Agency will collect, analyze, and interpret information gathered through this generic clearance to identify strengths and weaknesses of current services and make improvements in service delivery based on feedback. The respondent pool consists of, but is not limited to, federal, state, local, tribal, territorial and industry users of emergency communications priority services. Responses will be assessed to plan and inform efforts to improve or maintain the quality of service offered to the public. If this information is not collected, vital feedback from customers and stakeholders on the Agency's services will be unavailable. The Agency will only submit a collection for approval under this generic clearance if it meets the following conditions:

• Information gathered will be used only internally for general service improvement and program management purposes and is not intended for release outside of the agency. (If released, appropriate Agency procedures will be followed);

• Information gathered will not be used for the purpose of substantially informing influential policy decisions;

• Information gathered will yield qualitative information; the collections will not be designed or expected to yield statistically reliable results or used as though the results are generalizable to the population of study;

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future; and

• With the exception of information needed to provide renumeration for participants of focus groups and cognitive laboratory studies, personally identifiable information (PII) is collected only to the extent necessary and is not retained.

If these conditions are not met, the Agency will submit an information collection request to OMB for approval through the normal PRA process. To obtain approval for a collection that meets the conditions of this generic clearance, a standardized form will be submitted to OMB along with supporting documentation (e.g., a copy of the comment card). The submission will have automatic approval unless OMB identifies issues within 5 business days.

The types of collections that this generic clearance covers include, but are not limited to:

—Customer satisfaction surveys/feedback surveys

—Customer comment cards/complaint forms

—Self-Assessment questionnaire

—Small panel/discussion groups of customers, potential customers, or other stakeholders

The Agency has established a manager/managing entity to serve for this generic clearance and will conduct an independent review of each information collection to ensure compliance with the terms of this clearance prior to submitting each collection to OMB. If appropriate, agencies will collect information electronically and/or use online collaboration tools to reduce burden. Small business or other small entities may be involved in these efforts, but the Agency will minimize the burden on them of information collections approved under this clearance by sampling, asking for readily available information, and using short, easy-to-complete information collection instruments. Without these types of feedback, the Agency will not have timely information to adjust its services to meet customer needs. If a confidentiality pledge is deemed useful and feasible, the Agency will only include a pledge of confidentiality that is supported by authority established in statute or regulation, that is supported by disclosure and data security policies that are consistent with the pledge, and that does not unnecessarily impede sharing of data with other agencies for compatible confidential use. If the agency includes a pledge of confidentiality, it will include a citation for the statute or regulation supporting the pledge. There are no program changes since the previous OMB approval.

This is a new information collection request.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through utilization of appropriate automated, electronic, mechanical, or other technological collection techniques or other forms of information technology, e.g., permitting electronic submissions of responses.

Analysis

Agency: Cybersecurity and Infrastructure Security Agency (CISA), Department of Homeland Security (DHS).

Title: Generic Clearance for the Collection of Qualitative Feedback on National Security and Emergency Preparedness Communications (NSEPC).

OMB Number: 1670-NEW.

Frequency: Quarterly.

Affected Public: Federal, State, Local, Tribal, Territorial, And Industry Users of National Security and Emergency Preparedness Communications Public Safety Services.

Number of Respondents: 10,000,000 (customer satisfaction/feedback surveys), 1,899,000 (customer comment cards/complaint forms), 100,000 (self-assessment questionnaire), 1,000 (small panel/discussion groups).

Estimated Time per Respondent: 30 minutes (customer satisfaction/feedback surveys), 10 minutes (customer comment cards/complaint forms), 30 minutes (self-assessment questionnaire), 1 hour (small panel/discussion groups).

Total Burden Hours: 5,368,133.

Annualized Respondent Cost: $292,350,840.

Total Annualized Government Cost: $68,076.83.

Robert J. Costello,
Chief Information Officer, Department of Homeland Security, Cybersecurity and Infrastructure Security Agency.

[FR Doc. 2025-13566 Filed 7-17-25; 8:45 am]

BILLING CODE 9111-LF-P